DEPARTMENT OF TRANSPORTATION

Maritime Administration

[Docket No. MARAD-2007-27905]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before June 22, 2007.

FOR FURTHER INFORMATION CONTACT: Rodney McFadden, Maritime Administration, MAR-410, 400 Seventh Street, SW., Washington, DC 20590. Telephone: (202) 366-2647, Fax: (202) 366-7403; or E-mail: rodney.mcfadden@dot.gov. Copies of this collection can also be obtained from that office.

SUPPLEMENTARY INFORMATION: Title of Collection: Elements of Request for Course Approval.

Type of Request: Extension of a currently approved collection.

OMB Control Number: 2133-0535.

Form Numbers: None.

Expiration Date of Approval: Three years from date of approval by the Office of Management and Budget.

Summary of Collection of Information: Under this proposed voluntary collection, public and private maritime security training course providers may choose to provide the Maritime Administration (MARAD) with information concerning the content and operation of their courses. MARAD will use this information to evaluate whether the course meets the training standards and curriculum promulgated under Section 109 of the Maritime Transportation Security Act of 2002 (MTSA) (Pub. L. 107-295). Courses found to meet these standards will receive a course approval.

Need and Use of the Information: This information collection is needed to facilitate the approval of maritime security training courses that meet the standards and curriculum developed under the MTSA.

Description of Respondents: Respondents are public and private maritime security course training providers.

Annual Responses: 300.

Annual Burden: 3,000 hours.

Comments: Comments should refer to the docket number that appears at the top of this document. Written comments may be submitted to the Docket Clerk, U.S. DOT Dockets, Room PL-401, 400 Seventh Street, SW., Washington, DC 20590. Comments also may be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal holidays. An electronic version of this document is available on the World Wide Web at http://dms.dot.gov.

By Order of the Maritime Administrator.
Dated: April 12, 2007.
Murray Bloom,
Acting Secretary, Maritime Administration.

[FR Doc. E7-7693 Filed 4-20-07; 8:45 am]

BILLING CODE 4910-81-P